DEPARTMENT OF ENERGY

Federal Energy Regulatory Commission

Combined Notice of Filings #2

Take notice that the Commission received the following electric corporate filings:

Docket Numbers: EC16-59-000.

Applicants: RE Astoria LLC.

Description: Clarification to January 11, 2016 Application for Authorization Under Section 203 of the Federal Power Act and Request for Expedited Consideration, Confidential Treatment and Waivers of RE Astoria LLC.

Filed Date: 1/20/16.

Accession Number: 20160120-5161.

Comments Due: 5 p.m. ET 2/1/16.

Take notice that the Commission received the following electric rate filings:

Docket Numbers: ER10-2331-054; ER14-630-029; ER10-2319-045; ER10-2317-045; ER13-1351-027; ER10-2330-052.

Applicants: J.P. Morgan Ventures Energy Corporation, AlphaGen Power LLC, BE Alabama LLC, BE CA LLC, Florida Power Development LLC, Utility Contract Funding, L.L.C.

Description: Non-Material Change in Status of the J.P. Morgan Sellers.

Filed Date: 1/21/16.

Accession Number: 20160121-5189.

Comments Due: 5 p.m. ET 2/11/16.

Docket Numbers: ER12-2448-012.

Applicants: Chisholm View Wind Project, LLC.

Description: Notice of Change in Status of Chisholm View Wind Project, LLC.

Filed Date: 1/21/16.

Accession Number: 20160121-5155.

Comments Due: 5 p.m. ET 2/11/16.

Docket Numbers: ER16-277-001.

Applicants: Talen Energy Marketing, LLC.

Description: Tariff Amendment: Response to FERC Request for Additional Information to be effective 12/31/9998.

Filed Date: 1/21/16.

Accession Number: 20160121-5137.

Comments Due: 5 p.m. ET 2/11/16.

Docket Numbers: ER16-620-001.

Applicants: Safe Harbor Water Power Corporation.

Description: Tariff Amendment: Amendment to Pending Safe Harbor PPA eTariff Filing to be effective 12/31/2015.

Filed Date: 1/21/16.

Accession Number: 20160121-5180.

Comments Due: 5 p.m. ET 2/11/16.

Docket Numbers: ER16-743-000.

Applicants: ITC Great Plains, LLC.

Description: § 205(d) Rate Filing: Settlement Agreement to be effective 1/1/2016.

Filed Date: 1/19/16.

Accession Number: 20160119-5235.

Comments Due: 5 p.m. ET 2/9/16.

Docket Numbers: ER16-752-000.

Applicants: Carousel Wind Farm, LLC.

Description: Amendment to January 20, 2016 Carousel Wind Farm, LLC submits tariff filing.

Filed Date: 1/21/16.

Accession Number: 20160121-5167.

Comments Due: 5 p.m. ET 2/11/16.

Docket Numbers: ER16-757-000.

Applicants: PJM Interconnection, L.L.C.

Description: § 205(d) Rate Filing: Revisions to OATT re: Merchant Network Upgrades to be effective 5/1/2016.

Filed Date: 1/21/16.

Accession Number: 20160121-5211.

Comments Due: 5 p.m. ET 2/11/16.

Docket Numbers: ER16-758-000.

Applicants: New England Power Company.

Description: § 205(d) Rate Filing: NEP Sched III-B Integrated Facilities Provisions Amdts & Notice Waiver Request to be effective 1/1/2014.

Filed Date: 1/21/16.

Accession Number: 20160121-5215.

Comments Due: 5 p.m. ET 2/11/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 21, 2016.
Nathaniel J. Davis, Sr.,
Deputy Secretary.

[FR Doc. 2016-01800 Filed 2-1-16; 8:45 am]

BILLING CODE 6717-01-P